DEPARTMENT OF AGRICULTURE

Forest Service

Notice of Resource Advisory Committee Meeting

AGENCY: Southwest Idaho Resource Advisory Committee, Boise, ID, USDA, Forest Service.

ACTION: Notice of meeting.

SUMMARY: Pursuant to the authorities in the Federal Advisory Committee Act (Public Law 92-463) and under the Secure Rural Schools and Community Self-Determination Act of 2000 (Public Law 106-393) the Boise and Payette National Forests' Southwest Idaho Resource Advisory Committee will meet Wednesday, December 12, 2001 in Boise, Idaho for a business meeting. The meeting is open to the public.

FOR FURTHER INFORMATION CONTACT: Randy Swick, McCall District Ranger and Designated Federal Officer, at (208) 634-0400.

SUPPLEMENTARY INFORMATION: The business meeting on December 12, begins at 10 am, at the Idaho Department of Agriculture Building, 2270 old Penitentiary Road, Boise, Idaho. Agenda topics will include FACA overview, Charter overview, Process for project identification/recommendation, election of Chairperson, operating guidelines, and establishment of future meeting schedule.

Dated: November 16, 2001.
David F. Alexander,
Forest Supervisor.

[FR Doc. 01-29397 Filed 11-26-01; 8:45 am]

BILLING CODE 3410-11-M